INTERNATIONAL TRADE COMMISSION

[USITC SE-08-021]

Government in the Sunshine Act Meeting Notice

Agency Holding the Meeting: United States International Trade Commission.

Time and Date: August 7, 2008 at 11 a.m.

Place: Room 101, 500 E Street, SW., Washington, DC 20436, Telephone: (202) 205-2000.

Status: Open To The Public

Matters to be Considered: 1. Agenda for future meetings: None.

2. Minutes.

3. Ratification List.

4. Inv. Nos. 701-TA-457 and 731-TA-1153 (Preliminary) (Certain Tow-Behind Lawn Groomers and Parts Thereof from China)—briefing and vote. (The Commission is currently scheduled to transmit its determinations to the Secretary of Commerce on or before August 8, 2008; Commissioners' opinions are currently scheduled to be transmitted to the Secretary of Commerce on or before August 15, 2008.)

5. Outstanding Action Jackets: None.

In accordance with Commission policy, subject matter listed above, not disposed of at the scheduled meeting, may be carried over to the agenda of the following meeting.

Issued: July 29, 2008.
By order of the Commission.
William R. Bishop,
Hearings and Meetings Coordinator.

[FR Doc. E8-17889 Filed 8-4-08; 8:45 am]

BILLING CODE 7020-02-P